DEPARTMENT OF TRANSPORTATION

Federal Aviation Administration

14 CFR Part 71

[Docket No. FAA-2006-24826; Airspace Docket No. 06-ANM-3]

Establishment of Class E Airspace; Nucla, CO

AGENCY: Federal Aviation Administration (FAA), DOT.

ACTION: Final rule; correction.

SUMMARY: This action corrects an error in the northwest boundary description of a final rule that was published in the Federal Register on February 23, 2007 (72 FR 8100) Federal Register Docket No. FAA-2006-24826, Airspace Docket No. 06-ANM-3.

DATES: Effective Date: 0901 UTC, May 10, 2007. The Director of the Federal Register approves this incorporation by reference action under 1 CFR part 51, subject to the annual revision of FAA Order 7400.9 and publication of conforming amendments.

FOR FURTHER INFORMATION CONTACT: Ed Haeseker, Federal Aviation Administration, Western Service Area, System Support Group, 1601 Lind Avenue, SW., Renton, WA 98057; telephone: (425) 917-6714.

SUPPLEMENTARY INFORMATION:

History

Federal Register Docket FAA-2006-24826, Airspace Docket No. 06-ANM-3, published on February 23, 2007 (72 FR 8100), establishes Class E Airspace at Hopkins Field, Nucla, CO, effective May 10, 2007. An error was discovered in the northwest geographic boundary of the Class E airspace. This action corrects this error.

Correction to Final Rule

Accordingly, pursuant to the authority delegated to me, the legal description as published in the Federal Register February 23, 2007 (72 FR 8100), Federal Register Docket No. FAA-2006-24826, Airspace Docket No. 06-ANM-3, and incorporated by reference in 14 CFR 71.1, is corrected as follows:

PART 71—[AMENDED]

§ 71.1 [Amended]

* * * * *

ANM CO E5 Nucla, CO [Corrected]

Hopkins Field, CO

(Lat. 38°14′20″ N., long. 108°33′48″ W.)

That airspace extending upward from 700 feet above the surface within a 6.0-mile radius of Hopkins Field and within 4 miles each side of the 317° bearing from Hopkins Field extending from the 6.0-mile radius of Hopkins Field northwest to 12.0 miles from Hopkins Field; that airspace extending upward from 1,200 feet above the surface beginning at lat. 38°45′00″ N., long. 109°00′00″ W.; to lat. 38°30′00″ N., long. 108°30′00″ W.; to CONES VOR/DME; to DOVE CREEK VORTAC; to lat. 38°30′00″ N., long. 109°10′00″ W.; to point of beginning.

* * * * *

Issued in Seattle, Washington, on March 30, 2007.
Steven M. Osterdahl,
Director of Operations, En Route and Oceanic, Western Service Area.

[FR Doc. E7-6649 Filed 4-9-07; 8:45 am]

BILLING CODE 4910-13-P